DEPARTMENT OF ENERGY

Federal Energy Regulatory Commission

[Project No. 2165-022]

Alabama Power Company; Notice of Availability of Final Environmental Assessment

March 2, 2009.

In accordance with the National Environmental Policy Act of 1969 and the Federal Energy Regulatory Commission's (Commission) regulations, 18 CFR part 380 (Order No. 486, 52 FR 47897), the Office of Energy Projects has reviewed the application for a New Major License for the Warrior River Hydroelectric Project, which includes the Lewis Smith and Bankhead developments.

The Lewis Smith development is located in north central Alabama in the headwaters of the Black Warrior River on the Sipsey Fork in Cullman, Walker, and Winston Counties. The Bankhead development is located in west central Alabama downstream of the Lewis Smith development, on the Black Warrior River in Tuscaloosa County. The Lewis Smith development occupies 2,691.44 acres of Federal lands administered by the U.S. Forest Service, and the Bankhead development occupies 18.7 acres of Federal lands administered by the Bureau of Land Management. Staff has prepared a final Environmental Assessment (EA) for the project.

The final EA contains staff's analysis of the potential environmental effects of the project and concludes that relicensing the project, with appropriate environmental protective measures, would not constitute a major federal action that would significantly affect the quality of the human environment.

A copy of the final EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

For further information, please contact Janet Hutzel at (202) 502-8675 or at janet.hutzel@ferc.gov.

Kimberly D. Bose,
Secretary.

[FR Doc. E9-5214 Filed 3-10-09; 8:45 am]

BILLING CODE 6717-01-P